DEPARTMENT OF ENERGY

Federal Energy Regulatory Commission

[Project No. 12778-000]

Fall Creek Hydro, LLC; Notice of Scoping Meetings, Site Visit, and Soliciting Scoping Comments

July 17, 2007.

Take notice that the following hydroelectric application has been filed with the Commission and are available for public inspection:

a. Type of Application: New Major License.

b. Project No.: 12778-000.

c. Date filed: February 16, 2007.

d. Applicant: Fall Creek Hydro, LLC.

e. Name of Project: Fall Creek Dam Hydroelectric Project.

f. Location: On Fall Creek, near the towns of Springfield and Eugene, Lane County, Oregon. The project is located in the Willamette National Forest.

g. Filed Pursuant to: Federal Power Act, 16 U.S.C. 791(a)-825(r).

h. Applicant Contact: Brent L. Smith, Northwest Power Services, Inc., P.O. Box 535, Rigby, Idaho 83442; telephone (208) 745-0834 or by e-mail at bsmith@nwpwrservices.com.

i. FERC Contact: Kim A. Nguyen, Federal Energy Regulatory Commission, 888 First Street, NE., Washington, DC 20426; telephone (202) 502-6105 or by e-mail at kim.nguyen@ferc.gov.

j. Deadline for filing scoping comments: September 17, 2007.

All documents (original and eight copies) should be filed with: Kimberly D. Bose, Secretary, Federal Energy Regulatory Commission, 888 First Street, NE., Room 1A, Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. This application is not ready for environmental analysis at this time.

l. The Fall Creek Dam Hydroelectric Project will consist of a powerhouse with three turbine generator units of approximately 10 megawatt capacity. Fall Creek Hydro proposes to: (1) Bifurcate the existing south rectangular conduits, about 50 feet upstream of the outlet, with a steel penstock; (2) construct a new valve house with hydraulically operated vertical gates; (3) trifurcate the steel penstock at the entrance to the powerhouse into three penstocks feeding the three turbines; (4) construct a new powerhouse located on the west bank of the existing stilling basin, immediately downstream of the toe of the dam; and (5) construct a 12.5-kilovolt single-circuit transmission line running from the powerhouse to the existing line at the base of the dam. Fall River Hydro will use the head from the Corps of Engineer's (Corps) Fall Creek Dam and will operate the project in coordination with the Corps' authority to operate the dam for flood control, irrigation, navigation, improved downstream water quality, and water-based recreation.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Scoping Process: The Commission intends to prepare an Environmental assessment (EA) on the project in accordance with the National Environmental Policy Act. The EA will consider both site-specific and cumulative environmental impacts and reasonable alternatives to the proposed action.

Scoping Meetings

FERC staff will conduct one daytime scoping meeting and one evening meeting. The daytime scoping meeting will focus on resource agency and non-governmental organization concerns, while the evening scoping meeting is primarily for public input. All interested individuals, organizations, and agencies are invited to attend one or both of the meetings and to assist the staff in identifying the scope of the environmental issues that should be analyzed in the EA. The times and locations of these meetings are as follows:

Daytime Scoping Meeting

Date: Thursday, August 16, 2007.

Time: 9 a.m.

Place: Lane Community College—Center for Meeting and Learning.

Address: 4000 East 30th Avenue, Eugene, Oregon.

Evening Scoping Meeting

Date: Thursday, August 16, 2007.

Time: 7 p.m.

Place: Lane Community College—Center for Meeting and Learning.

Address: 4000 East 30th Avenue, Eugene, Oregon.

Copies of the Scoping Document (SD1) outlining the subject areas to be addressed in the EA were distributed to the parties on the Commission's mailing list. Copies of the SD1 will be available at the scoping meeting or may be viewed on the Web at http://www.ferc.gov using the “eLibrary” link (see item m above).

Site Visit

The Applicant and FERC staff will conduct a project site visit beginning at 9 a.m. on August 17, 2007. All interested individuals, organizations, and agencies are invited to attend. All participants planning to attend should call Kim Nguyen of FERC at (202) 502-6105 or Erik Steimle of Fall River Hydro at (503) 219-3750 no later than August 9, 2007. We will be meeting at the base of Fall Creek Dam. All participants are responsible for their own transportation to the site.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Kimberly D. Bose,
Secretary.

[FR Doc. E7-14304 Filed 7-24-07; 8:45 am]

BILLING CODE 6717-01-P